DEPARTMENT OF TRANSPORTATION

Federal Aviation Administration

14 CFR Part 39

[Docket No. FAA-2011-1410; Directorate Identifier 2011-NM-033-AD; Amendment 39-17038; AD 2012-09-03]

RIN 2120-AA64

Airworthiness Directives; Saab AB, Saab Aerosystems Airplanes

AGENCY: Federal Aviation Administration (FAA), Department of Transportation (DOT).

ACTION: Final rule.

SUMMARY: We are adopting a new airworthiness directive (AD) for all Saab AB, Saab Aerosystems Model SAAB 2000 airplanes. This AD was prompted by reports of hydraulic accumulator failure. This AD requires replacing certain hydraulic accumulators with stainless steel hydraulic accumulators, and structural modifications in the nose landing gear bay. We are issuing this AD to prevent failure of hydraulic accumulators, which may result in damage to the airplane and injury to occupants.

DATES: This AD becomes effective June 7, 2012.

The Director of the Federal Register approved the incorporation by reference of a certain publication listed in this AD as of June 7, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149

SUPPLEMENTARY INFORMATION:

Discussion

We issued a notice of proposed rulemaking (NPRM) to amend 14 CFR part 39 to include an AD that would apply to the specified products. That NPRM was published in the Federal Register on December 29, 2011 (76 FR 81889). That NPRM proposed to correct an unsafe condition for the specified products. The MCAI states:

Three cases of failure have been reported, affecting the same type of hydraulic accumulator as installed on SAAB 2000 aeroplanes, although all occurred on other aeroplane types. The reported cause of these failures has been traced to corrosion. Any of the end parts on the accumulator may depart from the pressure vessel if they are affected by corrosion.

This condition, if not detected and corrected, may lead to fatigue failure of a hydraulic accumulator, possibly resulting in damage to the aeroplane and injury to occupants. In addition, a quality issue during the replacement of the base material in the end parts of the accumulator may have affected the service life of the accumulator.

To address this unsafe condition, SAAB has introduced a new type of hydraulic accumulator, which is made of stainless steel.

For the reasons described above, this [EASA] AD requires the replacement of all Part Number (P/N) 08 8423 030 1 hydraulic accumulators with stainless steel P/N 40800-2050 hydraulic accumulators and associated structural modifications in the nose landing gear bay.

You may obtain further information by examining the MCAI in the AD docket.

Comments

We gave the public the opportunity to participate in developing this AD. We have considered the comment received.

Request To Include a Statement From the Service Information

Saab AB (the commenter) requested that we revise the NPRM (76 FR 81889, December 29, 2011) to include a statement as follows: “In addition, a quality issue during the replacement of the base material in the end parts of the accumulator may have affected the service life of the accumulator.”

We infer that the commenter requested that we add the statement to the Discussion section of the NPRM (76 FR 81889, December 29, 2011). We agree that Saab Service Bulletin 2000-29-024, Revision 01, dated November 5, 2010, states, “In addition, a qualification issue during the change of the base material, for the end parts of the accumulator back in 1993, can have affected the life limit of the accumulator.” However, we have not included the statement in the final rule because we do not restate the Discussion section in the final rule. We have not changed the AD in this regard.

Explanation of Additional Change Made to This AD

We have revised the heading and wording in paragraph (i) of this AD; this change has not changed the intent of that paragraph.

Conclusion

We reviewed the available data, including the comment received, and determined that air safety and the public interest require adopting the AD with the changes described previously—except for minor editorial changes. We have determined that these minor changes:

• Are consistent with the intent that was proposed in the NPRM (76 FR 81889, December 29, 2011) for correcting the unsafe condition; and

• Do not add any additional burden upon the public than was already proposed in the NPRM (76 FR 81889, December 29, 2011).

Costs of Compliance

We estimate that this AD will affect 8 products of U.S. registry. We also estimate that it will take about 12 work-hours per product to comply with the basic requirements of this AD. The average labor rate is $85 per work-hour. Required parts will cost about $9,995 per product. Where the service information lists required parts costs that are covered under warranty, we have assumed that there will be no charge for these parts. As we do not control warranty coverage for affected parties, some parties may incur costs higher than estimated here. Based on these figures, we estimate the cost of this AD to the U.S. operators to be $88,120, or $11,015 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 81889, December 29, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-09-03 Saab AB, Saab Aerosystems: Amendment 39-17038. Docket No. FAA-2011-1410; Directorate Identifier 2011-NM-033-AD.

(a) Effective Date

This airworthiness directive (AD) becomes effective June 7, 2012.

(b) Affected ADs

None.

(c) Applicability

This AD applies to Saab AB, Saab Aerosystems Model SAAB 2000 airplanes, certificated in any category; all serial numbers.

(d) Subject

Air Transport Association (ATA) of America Code 29: Hydraulic Power.

(e) Reason

This AD was prompted by reports of hydraulic accumulator failure. We are issuing this AD to prevent failure of hydraulic accumulators, which may result in damage to the airplane and injury to occupants.

(f) Compliance

You are responsible for having the actions required by this AD performed within the compliance times specified, unless the actions have already been done.

(g) Actions

Within 12 months after the effective date of this AD, replace all hydraulic accumulators having part number (P/N) 08 8423 030 1, with stainless steel hydraulic accumulators having P/N 40800-2050, and do the structural modifications in the nose landing gear bay, in accordance with the Accomplishment Instructions of Saab Service Bulletin 2000-29-024, Revision 01, dated November 5, 2010.

(h) Parts Installation

After replacing hydraulic accumulators having P/N 08 8423 030 1 with hydraulic accumulators having P/N 40800-2050, and doing the structural modifications in the nose landing gear bay, as required by paragraph (g) of this AD, no person may install any hydraulic accumulator having P/N 08 8423 030 1 on any airplane.

(i) Credit for Previous Actions

This paragraph provides credit for the actions required by paragraph (g) of this AD, if those actions were performed before the effective date of this AD using Saab Service Bulletin 2000-29-024, dated November 18, 2009.

(j) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2011-0004, dated January 17, 2011; and Saab Service Bulletin 2000-29-024, Revision 01, dated November 5, 2010; for related information.

(l) Material Incorporated by Reference

(1) You must use the following service information to do the actions required by this AD, unless the AD specifies otherwise. The Director of the Federal Register approved the incorporation by reference (IBR) of the following service information under 5 U.S.C. 552(a) and 1 CFR part 51:

(i) Saab Service Bulletin 2000-29-024, Revision 01, dated November 5, 2010. (2) For service information identified in this AD, contact Saab AB, Saab Aerosystems, SE-581 88, Linköping, Sweden; telephone +46 13 18 5591; fax +46 13 18 4874; email saab2000.techsupport@saabgroup.com; Internet http://www.saabgroup.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on April 23, 2012.
Michael Kaszycki,
Acting Manager, Transport Airplane Directorate, Aircraft Certification Service.

[FR Doc. 2012-10469 Filed 5-2-12; 8:45 am]

BILLING CODE 4910-13-P